DEPARTMENT OF HOMELAND SECURITY

Federal Emergency Management Agency

44 CFR Part 67

[Docket ID FEMA-2011-0002; Internal Agency Docket No. FEMA-B-1212]

Proposed Flood Elevation Determinations

Correction

In proposed rule document 2011-20866 beginning on page 50960 in the issue of Wednesday, August 17, 2011, make the following correction:

§ 67.4 [Corrected]

On page 50962, in the eleventh line below the column titles at the top of the page, “Unincorporated Areas of Craven County” should read “Unincorporated Areas of Jones County”.

[FR Doc. C1-2011-20866 Filed 9-1-11; 8:45 am]

BILLING CODE 1505-01-D